POSTAL SERVICE

39 CFR Part 111

New Standards for Domestic Mailing Services

AGENCY: Postal Service ™.

ACTION: Final rule.

SUMMARY: The Postal Service is revising Mailing Standards of the United States Postal Service, Domestic Mail Manual (DMM®) to reflect changes to the prices and standards for the products now referred to as Mailing Services.

DATES: Effective Date: May 11, 2009.

FOR FURTHER INFORMATION CONTACT: Bill Chatfield, 202-268-7278.

SUPPLEMENTARY INFORMATION: On January 29, 2009 the Postal Service published a proposed rule in the Federal Register (Volume 74, Number 18, pages 5130-5137) that included several mail classification changes, modifications to mailpiece characteristics, and changes in classification terminology. A supplemental proposed rule was published in the Federal Register on February 6, 2009 (Volume 74, Number 24, pages 6250-6257) amending and clarifying certain standards. This final rule contains revisions that will be effective on May 11, 2009. We additionally describe those standards that were proposed for May 11, 2009 for which we will delay implementation until September 8, 2009.

For May 2010, we proposed: elimination of the Standard Mail® Not Flat-Machinable category, restriction on inserts in flats, and a new flexibility or foldability standard for flats. These items will be included in a new, separate proposal at a later date.

In the sections below, we identify each revision, and summarize and respond to comments regarding May 11, 2009 implementation.

Overview of Changes for Letters and Flats for May 2009

Letters

We align standards for commercial machinable and automation letters so all machinable letters have the same physical characteristics required of automation letters, with the exception of a qualifying barcode. We make slight revisions to the list of nonmachinable characteristics. We received comments in support of this alignment. Several commenters requested clarification of some of the elements that would render letters nonmachinable. Questions were raised about the effect of window envelopes or attachments on the addition of nonpaper surfaces to the list of nonmachinable characteristics. Several commenters questioned if this new nonmachinable characteristic would render laminated paper cards nonmachinable. The intent of this change is the alignment of machinable and automation letter standards. Current standards require automation letters to be “made of paper.” Mailers who have been able to establish that their laminated paper cards are made of paper and not plastic, have been able to mail those items at automation prices and will continue to be able to do so. Letters with nonpaper surfaces, other than envelope windows or attachments that are allowed in a class of mail, are not machinable. Several commenters asked for clarification of when letters with enclosed keys, coins or similar objects are nonmachinable. If coins or similar objects are either loose or make the letter nonuniform in thickness, the piece is nonmachinable. This revision aligns with current standards in DMM 201.3.10 and with Customer Support Ruling PS-328, available online at pe.usps.com. Commercial letters that are not machinable are eligible to be mailed as nonmachinable letters.

We proposed a new minimum 0.009 inch thickness standard for automation and machinable letters. We received a few comments in favor of this proposal and a few opposed. We continue to require automation and machinable letters larger than postcard size to be at least 0.009 inch thick, and we continue the current minimum thickness of 0.007 inch for letters and cards up to postcard size (4¼ inches high by 6 inches long).

We received several comments about the difficulty in determining excessive static charge or meeting coefficient of friction standards. As announced in a DMM Advisory notice on February 3, 2009, we postpone implementation of new static charge and coefficient of friction standards for automation and machinable letters, while new methods are explored to measure the standards. Some mailers indicated that they have methods to reduce effective static charge. We recommend that mailers try to measure and reduce the static charge created by their mailpieces to no more than two kilovolts and meet the paper-to-paper coefficient of friction recommendations between 0.24 and 0.36. As we stated in a DMM Advisory notice on January 28, 2009, we also postpone new standards for window envelopes.

Mailers have the option to prepare First-Class Mail® and Standard Mail automation letters and Standard Mail machinable letters to all applicable sort levels, with prices matching the level of sortation chosen. We received several comments objecting to this change and one in favor of the change. Claims were made that if a mailer chose to only prepare mixed AADC trays, that we would effectively be granting a discount for nonpresorted letters. There are other requirements for this mail, such as Move Update compliance, CASS ™-certification for barcoded letters, and ZIP® Code accuracy—all of which help us process and deliver mixed AADC mail more efficiently than single-piece mail. Some commenters stated that processing plants urged mailers to bring in “residual” mail as early as possible; they were also concerned that the USPS® might impose earlier critical entry times for this mail. The USPS has the operational capacity to enable timely processing without changing critical entry times.

Flats

We will retain the current preparation options for automation First-Class Mail flats of either bundle-based or tray-based sortation with applicable prices. We received many comments opposed to the proposal to eliminate bundle-based sortation, ranging from recent investments in bundling equipment to potentially less access to lower prices. We are postponing implementation of this change, and will reconsider it for later implementation.

Rigid flat-size mailpieces that are not able to meet the flexibility standards in DMM 301.1.3 may be eligible for automation prices if they are determined to have flats machine-compatibility through a Pricing and Classification Service Center (PCSC)-administered testing process. Eligibility for such pieces will be valid until May 2010. Mailers coordinate testing requests via district managers of business mail entry. Those pieces that do not meet the published flexibility standards for flats, but are authorized to mail at flats prices by PCSC approval, must be marked “Automation Flat.”

Postponed Until September 8, 2009—Flats Changes

The following changes for flats will have a September 8, 2009 implementation date to provide additional time for mailers to make the adjustments to their operations.

Polywrap standards, currently applicable only to automation flats, will apply to all flat-size mailpieces using polywrap, except for flats mailed at saturation and high-density Periodicals or Standard Mail prices. We received a few comments asking for exemption of saturation and high-density flats, which we have accommodated in our revisions. We received some comments requesting more time to comply with this change and some comments in favor of the change. In response to requests for more time, the delayed implementation will allow mailers who have not been using approved polywrap to make the transition. Detailed specifications for polywrap approved for use on flats, as well as a list of approved products, is available at ribbs.usps.gov. The use of automation-compatible polywrap on all flat-size mailpieces improves mail processing efficiency and applies standardization and consistency for mailers of polywrapped flats.

The polywrap selvage (overhang) on a polywrapped flat will be included when a flat is measured for maximum dimensions, because selvage that extends beyond the maximum height or length interferes with efficient processing. Several commenters thought this restriction would render their larger flats ineligible for flats prices. When our flats-sorting equipment attempts to process pieces that are larger than the maximum length or height of a mailpiece, the pieces are often culled out. As an accommodation, we will increase the maximum length of a polywrapped flat to 15.75 inches (inclusive of selvage) from the current 15 inches to accommodate some additional selvage for larger publications. As a reminder, we continue to allow no more than 1½ inches of selvage in the length and no more than ½ inch in the height. We will not include selvage when measuring for minimum dimensions because the selvage is not substantial enough for it to be considered part of a uniformly thick flat. We received no comments related to selvage and minimum dimensions.

We extend the deflection standards currently applicable to automation flats, to all flat-size mailpieces, except those mailed at saturation and high-density Periodicals or Standard Mail prices. The deflection standards also change to allow one inch less of vertical deflection (droop) than is currently allowed. We also eliminate the current exception for oblong flats (those with a bound edge on the shorter side) so all flats are tested with the length placed perpendicular to the edge of a flat surface. A few commenters asked that the exception to deflection standards apply to high-density as well as saturation flats. We agree to make that accommodation. Several commenters disagreed with the more restrictive deflection standards on all flats. Some commenters also objected to the change in the testing procedure for oblong flats, stating that those flats would not pass the new test administered by placing the bound edge parallel to the edge of the flat surface. As a reminder, the USPS reduced the deflection standards in 2007, permitting up to a 4-inch drop for pieces at least 10 inches long. The new standards will allow a 3-inch drop for pieces at least 10 inches long, compared to a maximum of 2⅜ inch drop before May 2007. Our difficulties in processing oblong flats, and those that come close to the current maximum deflection, made it clear that the previous reduction was too extensive. Some oblong flats may be able to meet the new standards by adding a tab to the open edges opposite the bound edge or by other methods. Our delayed implementation offers mailers the opportunity to make changes to slightly stiffen their “floppy” flats to meet the new standards. The new standards, by allowing more deflection for flats over 10 inches long than for shorter pieces, provide flexibility to the mailing community while ensuring efficient processing of the mail.

Parcels

For consolidation purposes, we remove definitions of irregular parcels from the mail preparation standards in DMM 465, 475, and 485, and provide references to the current definition of irregular parcels in DMM 401, Physical Standards. This does not change the current definition of irregular parcels.

Overview of Proposed Changes for 2010

Summary

All changes originally proposed for 2010 will be reissued in a subsequent proposed rule. As information, we briefly discuss those changes below.

Flats

We proposed to merge standards for nonautomation and automation flats in May 2010; requiring all machinable flats, whether or not they are barcoded, to have the same physical characteristics. The terminology would change the categories to: machinable; barcoded machinable; and irregular flats. Irregular flats would encompass two types of flat-size mailpieces. One is a flat-size piece that is machinable, but with parcel-like characteristics that affect deliverability, such as pieces with rigid contents because the pieces cannot be folded. Another type of irregular flat is foldable with favorable delivery characteristics, but is not machinable, such as flimsy pieces that are difficult to process on automation equipment.

Current flexibility standards in DMM 301.1.3 describe minimum flexibility as demonstrated by “tabletop” flexibility tests. Effective May 2009, rigid flat-size mailpieces not able to meet the flexibility standards in 301.1.3 may be eligible for automation prices if they demonstrate flat machine-compatibility through a PCSC-administered testing process. Delivery of rigid pieces is often more costly than delivery of foldable flats. Rigid pieces that do not fit in smaller mail receptacles often result in Postal employees having to leave non-delivery notices. This is similar to delivery constraints for parcels.

For May 2010, we proposed a single flexibility standard that would require all machinable flat-size mailpieces with rigid contents to be foldable, parallel to the length, to a height no greater than 5 inches. Flat-size pieces failing to meet this level of flexibility may be categorized as irregular flats. Quite a few commenters objected to the 5-inch restriction, suggesting that allowing a 6-inch height would accommodate the contents that they mail in substantial quantities, while others requested that we allow pieces to be folded in either direction.

We will provide revised DMM language for new flexibility standards and any new categorization of flats for 2010 in a subsequent Federal Register proposal.

We are postponing our proposal to restrict inserts in flats. We received many comments requesting reconsideration due to the prevalence of inserts that advertisers rely on as part of their mailing strategy. We recognize that mailers rely on loose inserts for advertising purposes and understand that we share common ground in taking steps to be sure that inserts reach the addressees and do not fall out of mailpieces. Therefore, we will work with mailers to identify publications and catalogs with loose inserts that fall out of the mailpiece and inhibit our processing and delivery functions. In most cases, a simple “shake” test may provide a useful demonstration of whether inserts are likely to fall out. Pinching a flat with inserts by the upper corner of the bound edge and shaking it will tend to dislodge those inserts not blown well into the body of the flat. Inserts that are inserted or blown well into the body of a flat tend to stay in place.

Not Flat-Machinable (NFMs)

In 2007, we created an NFM category for Standard Mail items that could not meet revised automation flats standards. We proposed to discontinue the NFM category in May 2010. Since 2007, many mailers have converted pieces that might have been subject to NFM or parcel prices, into pieces eligible for flats prices. We will include any change in the NFM categorization in a subsequent proposal along with other proposals to be effective in May 2010.

The Postal Service adopts the following changes to Mailing Standards of the United States Postal Service, Domestic Mail Manual (DMM), incorporated by reference in the Code of Federal Regulations. See 39 CFR Part 111.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

100 Retail Mail Letters, Cards, Flats, and Parcels

101 Physical Standards

101.1 Physical Standards for Letters

* * * * *

1.2 Nonmachinable Criteria

A letter-size piece is nonmachinable (see 6.4) if it has one or more of the following characteristics (see 601.1.4 to determine the length, height, top, and bottom of a mailpiece):

* * * * *

[Revise item b to add that any nonpaper exterior surface is nonmachinable as follows:]

b. Is polybagged, polywrapped, enclosed in any plastic material, or has an exterior surface made of a material that is not paper. Windows in envelopes made of paper do not make mailpieces nonmachinable. Attachments allowable under applicable eligibility standards do not make mailpieces nonmachinable.

* * * * *

[Revise item d to clarify that letters are nonmachinable when certain items are loose or when they cause the thickness to be uneven, as follows:]

d. Contains items such as pens, pencils, keys, or coins that cause the thickness of the mailpiece to be uneven; or loose keys or coins or similar objects not affixed to the contents within the mailpiece. Loose items may cause a letter to be nonmailable when mailed in paper envelopes; see 601.2.3, Odd-Shaped Items in Paper Envelopes.

* * * * *

[Revise item h by referring to sealing standards in 201.3.14.1 for all self-mailers as follows:]

h. Is a self-mailer that is not prepared according to 201.3.14.1.

[Revise item i by referring to sealing standards in 201.3.14.2 for all booklets as follows:]

i. Is a booklet that is not prepared according to 201.3.14.2.

* * * * *

200 Commercial Mail Letters and Cards

201 Physical Standards

1.0 Physical Standards for Machinable Letters and Cards

1.1 Physical Standards for Machinable Letters

1.1.1 Dimensional Standards for Letters

[Revise introductory sentence as follows:]

Machinable letter-size mail is:

* * * * *

[Add new item d as follows:]

d. Within an aspect ratio (length divided by height) of 1.3 to 2.5, inclusive. See 601.1.4.

* * * * *

1.1.3 All Machinable Letters

[Revise the first sentence of 1.1.3 as follows:]

All pieces of First-Class Mail and Standard Mail machinable letters must meet the standards for automation-compatible letters in 201.3.0. * * *

* * * * *

2.0 Physical Standards for Nonmachinable Letters

2.1 Criteria for Nonmachinable Letters

[Revise 2.1 by noting that letters with exterior surfaces not made of paper or that do not meet automation-compatibility standards are nonmachinable; that all letters over 3.3 ounces must have a barcode and claim an automation letter price to avoid a surcharge; and by removing the individual listed items as follows:]

A letter-size piece is nonmachinable if it has an exterior surface that is not made of paper or if it does not meet the standards in 201.3.0. Windows in envelopes made of paper do not make mailpieces nonmachinable. Attachments do not render mailpieces nonmachinable if allowed by eligibility standards according to the class of mail and if not prohibited in 201.3.0. In addition, a letter-size piece is nonmachinable if it weighs more than 3.3 ounces (up to 3.5 ounces) unless it has a barcode and is eligible for and claims automation letter prices or Standard Mail Carrier Route letter prices.

* * * * *

[Revise title of 3.0 as follows:]

3.0 Physical Standards for Machinable and Automation Letters and Cards

* * * * *

[Revise title of 3.2 as follows:]

3.2 Dimensions and Shape Standards for Machinable and Automation Letters

* * * * *

230 First-Class Mail

* * * * *

235 Mail Preparation

* * * * *

[Revise heading of 6.0 as follows:]

6.0 Preparing Automation Letters

* * * * *

6.6 Tray Preparation

* * * Preparation sequence, tray size, and Line 1 labeling:

* * * * *

[Revise items b through d to allow optional preparation and modify grouping requirement as follows:]

b. 3-digit/scheme: optional, but required for 3-digit price (150-piece minimum except no minimum for origin or entry 3-digit/scheme); overflow allowed; for Line 1, use L002, Column B.

c. AADC: optional, but required for AADC price (150-piece minimum); overflow allowed; group pieces by 3-digit (or 3-digit scheme) ZIP Code when overflow pieces from 3-digit trays are placed in AADC trays. For Line 1, use L801, Column B.

d. Mixed AADC: required (no minimum); group pieces by AADC when overflow pieces from AADC trays are placed in mixed AADC trays. For Line 1 use L201; for mail originating in ZIP Code areas in Column A, use “MXD” followed by city, state, and 3-digit ZIP Code prefix in Column C (use “MXD” instead of “OMX” in the destination line and ignore Column B).

* * * * *

240 Standard Mail

* * * * *

245 Mail Preparation

* * * * *

5.0 Preparing Nonautomation Letters

* * * * *

5.3 Machinable Preparation

* * * * *

[Revise introductory paragraph of 5.3.2 as follows:]

5.3.2 Traying and Labeling

Instead of preparing overflow AADC trays with fewer than 150 pieces, mailers may include these pieces in mixed AADC trays when a tray of 150 or more pieces can be made. Mailers must note these trays on standardized documentation (see 708.1.2). Pieces that are placed in the next tray level must be grouped by destination and placed in the front or back of that tray. Preparation sequence, tray size, and labeling:

* * * * *

[Revise first sentence of 5.3.2 b to allow optional preparation as follows:]

b. AADC (optional, but required for AADC price); 150-piece minimum (overflow allowed); group pieces by AADC when overflow pieces from AADC trays are placed in mixed AADC trays; labeling: * * *

* * * * *

[Revise heading of 7.0 as follows:]

7.0 Preparing Automation Letters

* * * * *

7.5 Tray Preparation

* * * Preparation sequence, tray size, and Line 1 labeling:

* * * * *

[Revise items b through d to allow optional preparation and modify grouping requirement as follows:]

b. 3-digit/scheme; optional, but required for 3-digit price (150-piece minimum, except no minimum for optional origin/entry 3-digit/scheme(s)); overflow allowed; for Line 1, use L002, Column B.

c. AADC: optional, but required for AADC price (150-piece minimum); overflow allowed; group pieces by 3-digit (or 3-digit scheme) ZIP Code prefix when overflow pieces from 3-digit/scheme trays are placed in AADC trays. For Line 1, use L801, Column B.

d. Mixed AADC: required (no minimum); group pieces by AADC when overflow pieces from AADC trays are placed in mixed AADC trays. For Line 1 labeling: use L011, Column B. Use L010, Column B if entered at an ASF or BMC or for mail placed on an ASF, BMC, or SCF pallet under the option in 705.8.10.3.

* * * * *

300 Commercial Mail Flats

301 Physical Standards

* * * * *

3.0 Physical Standards for Automation Flats

* * * * *

[Renumber 3.3 through 3.7 as new 3.4 through 3.8, and add new 3.3 as follows:]

3.3 Flats—Machine Compatibility

Flat-size mailpieces meeting the standards in 1.0 and 3.0, but unable to meet the minimum flexibility standards described in 1.3, are not eligible for automation prices unless the mailpieces demonstrate flats-machine compatibility. Rigid flat-size mailpieces in paper, polywrap or similar packaging that allows for the pieces to be grasped and inducted into USPS flat-sorting equipment may qualify for automation prices when meeting the following standards:

a. Mailpieces must be enclosed in envelopes or similar packaging capable of withstanding normal processing on USPS flat-sorting equipment.

b. Mailpieces must be approved for automation flats pricing by the USPS. Mailers seeking approval for mailpieces under this standard must contact their local manager, business mail entry for instructions on submitting sample mailpieces to the Pricing and Classification Service Center (PCSC) (see 608.8.0 for address) for analysis and possible testing. Mailpieces having a previous approval from the PCSC for automation flats prices, granted after May 2007, are not required to be resubmitted for a new approval. These and all other approvals granted under 3.3 expire in May 2010.

c. Mailpieces approved for automation flats pricing under this standard must print the endorsement “Automation Flat” directly under or to the left of the postage imprint.

* * * * *

302 Elements on the Face of a Mailpiece

* * * * *

4.0 Barcode Placement

* * * * *

4.6 Barcode in Address Block

When the barcode is included as part of the address block:

* * * * *

[Revise 4.6d by adding a new last sentence as follows:]

d. * * * Window envelopes also must meet the specifications in 601.6.3.

* * * * *

400 Commercial Parcels

* * * * *

460 Bound Printed Matter

* * * * *

465 Mail Preparation

* * * * *

5.0 Preparing Presorted Parcels

5.1 Basic Standards

5.1.1 General Preparation Requirements

All mailings of Presorted Bound Printed Matter (BPM) are subject to these general standards:

* * * * *

[Revise item b as follows:]

b. All pieces in a mailing must be within the same processing category. See 401.1.0 for definitions of machinable and irregular parcels.

* * * * *

470 Media Mail

* * * * *

475 Mail Preparation

* * * * *

5.0 Preparing Media Mail Parcels

[Revise introductory paragraph of 5.1 as follows:]

5.1 Basic Standards

All mailings of Presorted Media Mail are subject these general requirements:

* * * * *

[Revise item b as follows:]

b. All parcels in a mailing must be within the same processing category. See 401.1.0 for definitions of machinable and irregular parcels.

* * * * *

480 Library Mail

* * * * *

485 Mail Preparation

* * * * *

5.0 Preparing Library Mail Parcels

[Revise introductory paragraph of 5.1 as follows:]

5.1 Basic Standards

All mailings of Presorted Library Mail are subject to these general standards:

* * * * *

[Revise item b as follows:]

b. All pieces in a mailing must be within the same processing category. See 401.1.0 for definitions of machinable and irregular parcels.

* * * * *

Stanley F. Mires,
Chief Counsel, Legislative.

[FR Doc. E9-7570 Filed 4-3-09; 8:45 am]

BILLING CODE 7710-12-P